DEPARTMENT OF JUSTICE

Bureau of Justice Assistance

[OJP (BJA)—1278]

Announcement of the Availability of the State Criminal Alien Assistance Program for FY2000

AGENCY: Office of Justice Programs, Bureau of Justice Assistance, Justice.

ACTION: Notice of solicitation.

SUMMARY: Announcement of the availability of the Bureau of Justice Assistance State Criminal Alien Assistance Program (SCAAP) funding for FY2000.

DATES: Applications for payments may be made through a new Internet-based system beginning Thursday, June 1, 2000 and continuing until Monday, July 17, 2000.

ADDRESSES: Bureau of Justice Assistance, 810 Seventh Street, NW, Washington, DC 20531.

FOR FURTHER INFORMATION CONTACT: For program guidance and technical assistance, please log on to the Office of Justice Programs Home Page at: http://www.ojp.usdoj.gov and select “Funding Opportunities” and then “SCAAP,” or call the Office of Justice Programs Grants Management System Hotline at 1-888-549-9901. For general information about on-line application procedures for solicitations, please call the U.S. Department of Justice Response Center 1-800-421-6770.

SUPPLEMENTARY INFORMATION:

Authority

This action is authorized under the Omnibus Crime Control and Safe Streets Act of 1968, Sections 201-03, as amended, 42 U.S.C. 3721-23 (1994).

Background

SCAAP provides Federal assistance to states and units of local government for costs incurred for the imprisonment of undocumented criminal aliens who are convicted of felony or misdemeanor offenses. Potential applicants no longer may submit hard copy application forms and diskettes. For FY2000, state and local governments apply for payment via a paperless, electronic, end-to-end distributive, Internet-based web-site. BJA anticipates providing over 390 payments of varying amounts from a FY2000 funding total of $585,000,000.

Potential applicants with questions should call the U.S. Department of Justice Response Center at 1-800-421-6770 or the Office of Justice Programs Grants Management System Hotline at 1-888-549-9901. For access to program guidance and the on-line application, connect to http://www.ojp.usdoj.gov and select “Funding Opportunities” and then “SCAAP.”

Nancy E. Gist,
Director, Bureau of Justice Assistance.

[FR Doc. 00-14530 Filed 6-8-00; 8:45 am]

BILLING CODE 4410-18-P